SECURITIES AND EXCHANGE COMMISSION

[OMB Control No. 3235-0554]

Agency Information Collection Activities; Submission for OMB Review; Comment Request; Extension: Rule 6a-4, Form 1-N

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (SEC or “Commission”) is submitting to the Office of Management and Budget (OMB) this request for extension of the proposed collection of information provided for in Rule 6a-4 and Form 1-N, as discussed below. The Code of Federal Regulation citation to this collection of information is 17 CFR 240.6a-4 and 17 CFR 249.10 under the Securities Exchange Act of 1934 (15 U.S.C. 78a et seq.) (the “Act”).

Section 6 of the Act ¹ sets out a framework for the registration and regulation of national securities exchanges. Under the Commodity Futures Modernization Act of 2000, a futures market may trade security futures products by registering as a national securities exchange. Rule 6a-4 ² sets forth these registration procedures and directs futures markets to submit a notice registration on Form 1-N.³ Form 1-N calls for information regarding how the futures market operates, its rules and procedures, corporate governance, its criteria for membership, its subsidiaries and affiliates, and the security futures products it intends to trade. Rule 6a-4 also requires entities that have submitted an initial Form 1-N to file: (1) amendments to Form 1-N in the event of material changes to the information provided in the initial Form 1-N; (2) periodic updates of certain information provided in the initial Form 1-N; (3) certain information that is provided to the futures market's members; and (4) a monthly report summarizing the futures market's trading of security futures products. The information required to be filed with the Commission pursuant to Rule 6a-4 is designed to enable the Commission to carry out its statutorily mandated oversight functions and to ensure that registered and exempt exchanges continue to be in compliance with the Act.

¹ 15 U.S.C. 78f.

² 17 CFR 240.6a-4.

³ 17 CFR 249.10.

The respondents to the collection of information are futures markets.

The Commission estimates that the total annual burden for all respondents to provide periodic amendments ⁴ to keep the Form 1-N accurate and up to date as required under Rule 6a-4(b)(1) would be 45 hours (15 hours/respondent per year × 3 respondents ⁵) and $327 of miscellaneous clerical expenses. The Commission estimates that the total annual burden for all respondents to provide annual amendments under Rule 6a-4(b)(3) would be 45 hours (15 hours/respondent/year × 3 respondents) and $327 of miscellaneous clerical expenses. The Commission estimates that the total annual burden for all respondents to provide three-year amendments ⁶ under Rule 6a-4(b)(4) would be 20 hours (20 hours/respondent × 1 respondents per year) and $145 in miscellaneous clerical expenses. The Commission estimates that the total annual burden for the filing of the supplemental information ⁷ and the monthly reports required under Rule 6a-4(c) would be 18 hours (6 hours/respondent per year × 3 respondents ⁸) and $196.20 of miscellaneous clerical expenses. Thus, the Commission estimates the total annual burden for complying with Rule 6a-4 is 128 hours and $995.20 in miscellaneous clerical expenses.

⁴ 17 CFR 240.6a-4(b)(1).

⁵ The Commission estimates that three exchanges will file amendments with the Commission in order to keep their Form 1-N current.

⁶ 17 CFR 240.6a-4(b)(3) and (4).

⁷ 17 CFR 240.6a-4(c)

⁸ See supra footnote 7.

Compliance with Rule 6a-4 is mandatory. Information received in response to Rule 6a-4 shall not be kept confidential; the information collected is public information.

An agency may not conduct or sponsor, and a person is not required to respond to, a collection of information unless it displays a currently valid OMB control number.

The public may view and comment on this information collection request at: https://www.reginfo.gov/public/do/PRAViewICR?ref_nbr=202512-3235-021 or email comment to MBX.OMB.OIRA.SEC_desk_officer@omb.eop.gov within 30 days of the day after publication of this notice, by April 6, 2026.

Dated: February 27, 2026.
Sherry R. Haywood,
Assistant Secretary.

[FR Doc. 2026-04222 Filed 3-3-26; 8:45 am]

BILLING CODE 8011-01-P